DEPARTMENT OF ENERGY

Federal Energy Regulatory Commission

[Project No. 13108-002]

FFP Detroit 1, LLC; Notice of Surrender of Preliminary Permit

September 2, 2008.

Take notice that FFP Detroit 1, LLC, permittee for the proposed Detroit River Project, has requested that its preliminary permit be terminated. The permit was issued on July 17, 2008, and would have expired on June 30, 2011.¹ The project would have been located on the Detroit River in Wayne County, Michigan.

¹ 124 FERC ¶ 62,047.

The permittee filed the request on August 21, 2008, and the preliminary permit for Project No. 13108 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Kimberly D. Bose,
Secretary.

[FR Doc. E8-20803 Filed 9-8-08; 8:45 am]

BILLING CODE 6717-01-P